ENVIRONMENTAL PROTECTION AGENCY

[EPA-HQ-RCRA-2011-0178; FRL-9457-5]

EPA Seeking Input Materials Measurement; Municipal Solid Waste (MSW), Recycling, and Source Reduction Measurement in the U.S.

AGENCY: Environmental Protection Agency (EPA).

ACTION: Extension of comment period.

SUMMARY: The Environmental Protection Agency (EPA or the Agency) issued a notice in the Federal Register of August 2, 2011 soliciting stakeholder input regarding the efficacy and scope of the MSW Characterization Report called “Municipal Solid Waste in the United States” as part of a broader discussion about sustainable materials management. This information will be used to develop new measurement definitions and protocols for measurement of these materials, as well as the possible addition of construction and demolition (C&D) materials and non-hazardous industrial materials to the list of materials addressed in future efforts. This effort could lead to the creation of a new measurement report that the EPA will make publicly available. This document is extending the comment period from August 31, 2011 to September 30, 2011.

DATES: All written comments must be received on or before September 30, 2011.

ADDRESSES: Submit your comments, identified by Docket ID No. EPA-HQ-RCRA-2011-0178 by one of the following methods:

• http://www.regulations.gov. Follow the on-line instructions for submitting comments using the Docket ID No. EPA-HQ-RCRA-2011-0178.

• E-mail: rcra-docket@epa.gov.

• Fax: 202-566-9744.

• Mail: RCRA Docket (28221T), Environmental Protection Agency, 1200 Pennsylvania Ave., NW., Washington, DC 20460-0001.

• Hand Delivery: EPA West Building Room 3334, 1301 Constitution Avenue, NW., Washington, DC 20460. Such deliveries are only accepted during the Docket's normal hours of operation (8:30 a.m. to 4:30 p.m., Monday through Friday, excluding legal holidays) and special arrangements should be made for deliveries of boxed information.

Instructions: Direct your comments to Docket ID No. EPA-HQ-RCRA-2011-0178. EPA's policy is that all comments received will be included in the docket without change and may be made available on-line at http://www.regulations.gov, including any personal information provided, unless the comment includes information claimed to be Confidential Business Information (CBI) or other information whose disclosure is restricted by statute. The http://www.regulations.gov Web site is an “anonymous access” system, which means EPA will not know your identity or contact information unless you provide it in the body of your comment. If you send an e-mail comment directly to EPA without going through http://www.regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/dockets/.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the RCRA Docket, EPA/DC, EPA West, Room 3334, 1301 Constitution Ave., NW., Washington, DC 20460. The Public Reading Room is open from 8:30 a.m. to 4:30 p.m., Monday through Friday, excluding legal holidays. The telephone number for the Public Reading Room is (202) 566-1744, and the telephone number for the RCRA Docket is (202) 566-0270.

FOR FURTHER INFORMATION CONTACT: Hope Pillsbury, Mail Code (5306P), Office of Resource Conservation and Recovery, Environmental Protection Agency, 1200 Pennsylvania Ave., NW., Washington, DC 20460-0001; telephone number: (703) 308-7258; pillsbury.hope@epa.gov.

SUPPLEMENTARY INFORMATION:

This document extends the public comment period established in the Federal Register of August 2, 2011 (76 FR 46290?) (FRL-9446-9). In that document, EPA sought comments regarding the efficacy and scope of the MSW Characterization Report called “Municipal Solid Waste in the United States” as part of a broader discussion about sustainable materials management. Several requests were received from potential commenters, to extend the comment period by 30 days. EPA is hereby extending the comment period, which was set to end on August 31, 2011, to September 30, 2011. EPA will consider all comments received by September 30, 2011 to be timely and given full consideration.

To submit comments, please follow the detailed instructions as provided under the ADDRESSES section of this notice. If you have questions, consult the person listed under FOR FURTHER INFORMATION CONTACT.

List of Subjects

Environmental protection, municipal solid waste (MSW) characterization, MSW management, recycling, measurement, data, data collection, construction and demolition (C&D) recycling, source reduction, life cycle, life cycle systems approach, sustainable materials management.

Dated: August 18, 2011.
Suzanne Rudzinski,
Director, Office of Resource Conservation and Recovery, Office of Solid Waste and Emergency Response.

[FR Doc. 2011-22137 Filed 8-29-11; 8:45 am]

BILLING CODE 6560-50-P